DEPARTMENT OF COMMERCE

International Trade Administration

[A-580-874]

Certain Steel Nails From the Republic of Korea: Final Results of Antidumping Duty Administrative Review; 2021-2022

AGENCY: Enforcement and Compliance, International Trade Administration, Department of Commerce.

SUMMARY: The U.S. Department of Commerce (Commerce) determines that producers and/or exporters of certain steel nails (steel nails) from the Republic of Korea (Korea) were sold in the United States at less than normal value (NV) during the period of review (POR) of July 1, 2021, through June 30, 2022.

DATES: Applicable February 2, 2024.

FOR FURTHER INFORMATION CONTACT: Ashley Cossaart or Ajay Menon, AD/CVD Operations, Office IX, Enforcement and Compliance, International Trade Administration, U.S. Department of Commerce, 1401 Constitution Avenue NW, Washington, DC 20230; telephone: (202) 482-0462 or (202) 482-0208, respectively.

SUPPLEMENTARY INFORMATION:

Background

This review covers 118 producers and/or exporters of the subject merchandise. Commerce selected two mandatory respondents for individual examination: Daejin Steel Company (Daejin) and Korea Wire Co., Ltd. (KOWIRE).¹ The producers/exporters not selected for individual examination are listed in Appendix II.

¹ See Memorandum, “Respondent Selection,” dated October 11, 2022.

On July 31, 2023, Commerce published the Preliminary Results and invited interested parties to comment.² For a complete description of the events that occurred since the Preliminary Results, see the Issues and Decision Memorandum.³

² See Certain Steel Nails from the Republic of Korea: Preliminary Results of Antidumping Duty Administrative Review, Preliminary Determination of No Shipments, and Partial Rescission of Antidumping Duty Administrative Review; 2021-2022, 88 FR 49443 (July 31, 2023) (Preliminary Results), and accompanying Preliminary Decision Memorandum (PDM).

³ See Memorandum, “Decision Memorandum for the Final Results of the Administrative Review of the Antidumping Duty Order on Steel Nails from the Republic of Korea; 2021-2022,” dated concurrently with, and hereby adopted by, this notice (Issues and Decision Memorandum).

Scope of the Order ⁴

⁴ See Certain Steel Nails from the Republic of Korea, Malaysia, the Sultanate of Oman, Taiwan, and the Socialist Republic of Vietnam: Antidumping Duty Orders, 80 FR 39994 (July 13, 2015) (Order).

The merchandise subject to the Order is steel nails. For a complete description of the scope of the Order, see the Issues and Decision Memorandum.

Analysis of Comments Received

All issues raised in the case and rebuttal briefs are listed in Appendix I to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on the comments received from interested parties, we made certain changes to the margin calculation for Daejin in the Preliminary Results. However, these calculation changes did not affect the final weighted-average margin assigned to Daejin. For a discussion of these changes, see the Issues and Decision Memorandum.

Determination of No Shipments

As noted in the Preliminary Results, we received no shipment claims from Astrotech Steels Private Limited (Astrotech) and Geekay Wires Limited (Geekay) and preliminarily determined that they had no shipments during the POR.⁵ We received no comments from interested parties with respect to this preliminary determination of no shipments. Therefore, we continue to find that Astrotech and Geekay had no shipments during the POR.

⁵ See Preliminary Results.

Final Results of the Review

As a result of this review, we determine the following estimated weighted-average dumping margins for the period February 1, 2021, through January 31, 2022:

⁶ The exporters and/or producers not selected for individual review are listed in Appendix II. For a discussion of the methodology used to calculate the rate for non-selected respondents, see Preliminary Results, 88 FR at 49444.

Exporter/producer | Weighted- average dumping margin (percent)
Daejin Steel Company | 0.66
Korea Wire Co., Ltd | 0.00
Companies Not Selected for Individual Review ⁶ | 0.66

Disclosure

Commerce intends to disclose the calculations performed for Daejin in connection with these final results to interested parties within five days of the date of publication of this notice, in accordance with 19 CFR 351.224(b).

Assessment Rates

Pursuant to section 751(a)(2)(C) of the Tariff Act of 1930, as amended (the Act), and 19 CFR 351.212(b)(1), Commerce has determined, and U.S. Customs and Border Protection (CBP) shall assess, antidumping duties on all appropriate entries of subject merchandise in accordance with the final results of this review.

Pursuant to 19 CFR 351.212(b)(1), because Daejin and KOWIRE reported the entered value for all of their U.S. sales, we calculated importer-specific ad valorem antidumping duty assessment rates based on the ratio of the total amount of antidumping duties calculated for the examined sales to the total entered value of the sales for which entered value was reported. Where either the respondent's weighted-average dumping margin is zero or de minimis within the meaning of 19 CFR 351.106(c)(1), or an importer-specific rate is zero or de minimis, we will instruct CBP to liquidate the appropriate entries without regard to antidumping duties.

Commerce's “automatic assessment” practice will apply to entries of subject merchandise during the POR produced by Daejin or KOWIRE for which the reviewed companies did not know that the merchandise they sold to the intermediary (e.g., a reseller, trading company, or exporter) was destined for the United States. In such instances, we will instruct CBP to liquidate unreviewed entries at the all-others rate if there is no rate for the intermediate company(ies) involved in the transaction.⁷

⁷ For a full discussion of this practice, see Antidumping and Countervailing Duty Proceedings: Assessment of Antidumping Duties, 68 FR 23954 (May 6, 2003).

For the companies that were not selected for individual review, we assigned an assessment rate based on the review-specific average rate, calculated as noted in the “Final Results of the Review” section, above. Further, because we continue to find that Astrotech and Geekay had no shipments of subject merchandise during the POR, we will instruct CBP to liquidate any suspended entries that entered under these companies' antidumping duty case numbers at the all-others rate. The final results of this review shall be the basis for the assessment of antidumping duties on entries of merchandise covered by the final results of this review and for future deposits of estimated duties, where applicable.⁸

⁸ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) the cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recent period; (3) if the exporter is not a firm covered in this review, a previous review, or the less-than-fair-value (LTFV) investigation, but the manufacturer is, the cash deposit rate will be the rate established for the most recent period for the manufacturer of the merchandise; and (4) the cash deposit rate for all-other manufacturers or exporters will continue to be 11.80 percent, the all-others rate established in the LTFV investigation.⁹ These deposit requirements, when imposed, shall remain in effect until further notice.

⁹ See Order, 80 FR at 39996.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these final results of administrative review in accordance with sections 751(a)(1) and 777(i) of the Act, and 19 CFR 351.221(b)(5).

Dated: January 26, 2024.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: Whether Daejin's and KOWIRE's Home Market Sales are Bona Fide

Comment 2: The Cohen's d Test

Comment 3: Whether Commerce Should Deny Daejin's Duty Drawback Adjustment

Comment 4: Whether Commerce Should Apply Total Adverse Facts Available (AFA) to Daejin's Cost of Production (COP) Information

Comment 5: Whether Commerce Should Adjust Daejin's Conversion Costs

Comment 6: Whether Commerce Should Adjust Daejin's Interest Revenue

Comment 7: Whether Commerce Should Deny Daejin's Reported Scrap Offset

Comment 8: Whether Commerce Should Adjust Daejin's General and Administrative (G&A) and Interest Expense Ratios

Comment 9: Whether KOWIRE's Cash Deposit Instructions Should Be Revised

Comment 10: Whether Commerce Should Apply Total AFA to KOWIRE's Sales and Cost Data Due to an Inconsistent Weight Basis

Comment 11: Whether Commerce Should Apply Total AFA to KOWIRE's Cost Data

VI. Recommendation

Appendix II

Review-Specific Average Rate Applicable to Companies Not Selected for Individual Review

1. Agl Co., Ltd.

2. Americana Express (Shandong) Co. Ltd.

3. Ansing Fasteners Co. Ltd.

4. Beijing Catic Industry Limited

5. Beijing Jinheung Co., Ltd.

6. Big Mind Group Co., Ltd.

7. Changzhou Kya Trading Co., Ltd.

8. China Staple Enterprise Tianjin Co. Ltd.

9. D&F Material Products Ltd.

10. De Well Group Korea Co., Ltd.

11. Dezhou Hualude Hardware Products Co. Ltd.

12. DLF Industry Co., Limited

13. Doublemoon Hardware Company Ltd.

14. DT China (Shanghai) Ltd.

15. Duo-Fast Korea Co. Ltd.

16. Ejen Brothers Limited

17. England Rich Group (China) Ltd.

18. Ever Leading International Inc.

19. Fastgrow International Co., Inc.

20. Glovis America, Inc.

21. GWP Industries (Tianjin) Co., Ltd.

22. Haas Automation Inc.

23. Han Express Co. Ltd.

24. Handuk Industrial Co., Ltd.

25. Hanmi Staple Co., Ltd.

26. Hebei Minmetals Co., Ltd.

27. Hebei Longshengyuan Trade Co Ltd.

28. Hebei Cangzhou New Century Foreign Trade Co., Ltd.

29. Hebei Shinyee Trade Co., Ltd.

30. Hengtuo Metal Products Company Limited

31. Home Value Co., Ltd.

32. Hongyi (Hk) Hardware Products Co., Limited

33. Hongyi (Hk) Industrial Co., Limited

34. Huanghua RC Business Co., Ltd.

35. Huanghua Yingjin Hardware Products Co., Ltd.

36. Inmax Industries Sdn. Bhd.

37. JCD Group Co., Limited

38. Je-il Wire Production Co., Ltd.

39. Jinheung Steel Corporation

40. Jining Jufu International Trade Co.

41. Jinsco International Corporation

42. Joo Sung Sea & Air Co., Ltd.

43. Jushiqiangsen (Tianjin) International Trade Co., Ltd.

44. Kabool Fasteners Co. Ltd.

45. KB Steel

46. Kerry-Apex (Thailand) Co., Ltd.

47. Koram Inc.

48. KPF Co., Ltd.

49. Kuehne & Nagel Ltd.

50. Linyi Double-Moon Hardware Products Co., Ltd.

51. Linyi Flyingarrow Imp. & Exp. Co., Ltd.

52. Linyi Jianchengde Metal Hardware Co.

53. Linyi Yitong Chain Co., Ltd.

54. Manho Rope and Wire Ltd.

55. Max Co., Ltd.

56. Mingguang Ruifeng Hardware Products Co., Ltd.

57. Nanjing Senqiao Trading Co., Ltd.

58. Needslink, Inc.

59. Ocean King International Industries Limited

60. Paslode Fasteners (Shanghai) Co., Ltd.

61. Peace Korea Co., Ltd.

62. Qingdao Ant Hardware Manufacturing Co., Ltd.

63. Qingdao Best World Industry-Trading Co., Ltd.

64. Qingdao Cheshire Trading Co., Ltd.

65. Qingdao Hongyuan Nail Industry Co., Ltd.

66. Qingdao Jcd Machinery Co., Ltd.

67. Qingdao Jiawei Industry Co., Limited

68. Qingdao Jisco Co., Ltd.

69. Qingdao Master Metal Products Co., Ltd.

70. Qingdao Meijialucky Industry and Co.

71. Qingdao Mst Industry And Commerce Co., Ltd.

72. Qingdao Ruitai Trade Co., Ltd.

73. Qingdao Shantron Int'l Trade Co., Ltd.

74. Qingdao Shenghengtong Metal Products Co., Ltd.

75. Qingdao Sunrise Metal Products Co., Ltd.

76. Qingdao Tian Heng Xiang Metal Products Co., Ltd.

77. Qingdao Top Metal Industrial Co., Ltd.

78. Rewon Systems, Inc.

79. Rise Time Industrial Ltd.

80. Shandong Dominant Source Group Co., Ltd.

81. Shandong Guomei Industry Co., Ltd.

82. Shanghai Curvet Hardware Products Co., Ltd.

83. Shanghai Goldenbridge International Co., Ltd.

84. Shanghai Pinnacle International Trading Co., Ltd.

85. Shanghai Zoonlion Industrial Co., Ltd.

86. Shanxi Pioneer Hardware Industrial Co., Ltd.

87. Shanxi Sanhesheng Trade Co., Ltd.

88. Shaoxing Bohui Import & Export Co., Ltd.

89. Shijiazhuang Yajiada Metal Products Co., Ltd.

90. Shijiazhuang Tops Hardware Manufacturing Co., Ltd.

91. Shin Jung TMS Corporation Ltd.

92. SSS Hardware International Trading Co., Ltd.

93. Storeit Services LLP

94. Test Rite International Co., Ltd.

95. Tangshan Jason Metal Materials Co., Ltd.

96. The Inno Steel Industry Company

97. Tianjin Bluekin Industries Limited.

98. Tianjin Coways Metal Products Co., Ltd.

99. Tianjin Hweschun Fasteners Manufacturing Co. Ltd.

100. Tianjin Jinchi Metal Products Co., Ltd.

101. Tianjin Jinghai County Hongli Industry and Business Co., Ltd.

102. Tianjin Jinzhuang New Material Sci Co., Ltd.

103. Tianjin Lianda Group Co., Ltd.

104. Tianjin Zhonglian Metals Ware Co., Ltd.

105. Tianjin Zhonglian Times Technology Co., Ltd.

106. Un Global Company Limited

107. Unicorn (Tianjin) Fasteners Co., Ltd.

108. United Company For Metal Products

109. W&K Corporation Limited

110. Weifang Wenhe Pneumatic Tools Co., Ltd.

111. Wulian Zhanpengmetals Co., Ltd.

112. WWL India Private Ltd.

113. Xian Metals And Minerals Import And Export Co., Ltd.

114. Youngwoo Fasteners Co., Ltd.

115. Zhangjiagang Lianfeng Metals Products Co., Ltd.

116. Zhaoqing Harvest Nails Co., Ltd.

[FR Doc. 2024-02112 Filed 2-1-24; 8:45 am]

BILLING CODE 3510-DS-P